ENVIRONMENTAL PROTECTION AGENCY

[OPP-34203J; FRL-6819-6-]

Chlorpyrifos; End-Use Products Cancellation Order

AGENCY: Environmental Protection Agency (EPA).

ACTION: Notice.

SUMMARY: This notice announces the cancellations, as requested by the companies, that hold the registrations of pesticide end-use products containing the active ingredient chlorpyrifos and accepted by EPA, pursuant to section 6(f) of the Federal Insecticide, Fungicide, and Rodenticide Act (FIFRA). This order follows up a December 5, 2001, notice of receipt of requests for registration cancellations. In that notice, EPA indicated that it would issue an order confirming the voluntary registration cancellations. Any distribution, sale, or use of canceled chlorpyrifos products is only permitted in accordance with the terms of the existing stocks provisions of this cancellation order.

DATES: The cancellations are effective January 25, 2002.

FOR FURTHER INFORMATION CONTACT: Tom Myers, Special Review and Reregistration Division (7508C), Office of Pesticide Programs, Environmental Protection Agency, 1200 Pennsylvania Ave., NW., Washington, DC 20460, telephone number: (703) 308-8589; fax number: (703) 308-8041; e-mail address: myers.tom@epa.gov.

SUPPLEMENTARY INFORMATION:

I. General Information

A. Does This Action Apply to Me?

This action is directed to the public in general. You may be potentially affected by this action if you manufacture, sell, distribute, or use chlorpyrifos products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

B. How Can I Get Additional Information, Including Copies of This Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. To access information about the risk assessment for chlorpyrifos, go to the Home Page for the Office of Pesticide Programs or go directly to http://www.epa.gov/pesticides/op/chlorpyrifos.htm.

2. In person. The Agency has established an official record for this action under docket control number OPP-34203J. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Receipt of Requests to Cancel and Amend Registrations to Delete Uses

A. Background

In a memorandum of agreement (“Agreement”) effective June 7, 2000, EPA and the basic manufacturers of the active ingredient chlorpyrifos agreed to several voluntary measures that will reduce the potential exposure to children associated with chlorpyrifos containing products. EPA initiated the negotiations with registrants after finding chlorpyrifos, as currently registered, was an exposure risk especially to children. As a result of the Agreement, registrants that hold the pesticide registrations of end-use products containing chlorpyrifos (who are in large part the customer of these basic manufacturers) have asked EPA to cancel their registrations for these products.

In the Federal Register of December 5, 2001 (66 FR 63237) (FRL-6811-4), EPA published a notice of the Agency's receipt of end-use product cancellation requests from registrants that hold the pesticide registrations containing chlorpyrifos (who are in large part the customer of the basic manufacturers). These requests were submitted as a result of the Memorandum of Agreement that was signed on June 7, 2000, between EPA and the basic manufacturers of chlorpyrifos. A copy of the Memorandum of Agreement that was signed on June 7, 2000, is located in OPP docket control number 34203D.

B. Requests for Voluntary Cancellation of End-Use Products

Pursuant to the Agreement and FIFRA section 6(f)(1)(A), several registrants have submitted requests for voluntary cancellation of registrations for their end-use products. The registrations for which cancellations were requested are identified in the following Table 1.

Table 1. End-Use Product Registration Cancellation Requests
Company | Reg. No. | Product
Dragon Chemical Corporation | 16-101 | Dursban ½ Granular Insecticide
| 16-123 | Dragon Home Pest Control
| 16-139 | Dragon Home Pest Killer
| 16-146 | Dragon Termite and Soil Insect Killer
| 16-163 | Dragon Crawling Insect Killer
| 16-172 | Dragon Dursban 1% Granular Insecticide
The Scotts Company | 239-2423 | Ortho Lawn Insect Spray |  | 239-2490 | Ortho Home Pest Insect Control
| 239-2513 | Ortho-Klor Soil Insect and Termite Killer
| 239-2517 | Ortho-Klor Indoor & Outdoor Insect Killer
| 239-2520 | Ortho Mole Cricket Bait Formula II
| 239-2521 | Ortho Mole Cricket Bait Formula III
| 239-2570 | Ortho-Klor 1% Dursban Lawn & Soil Granules
| 239-2633 | Ortho Dursban Lawn Insect Formula II
| 239-2635 | Ortho Multipurpose Borer & Insect Spray
Amvac Chemical Corporation | 5481-68 | Alco Chlorpyrifos 1E Emulsifiable Insecticide
| 5481-121 | Chlorpyrifos Granules 1
| 5481-216 | Dursban-DDVP 2.50 Pest Control
| 5481-217 | Dursban-DDVP 1.25
| 5481-221 | Dursban 2E Insecticide
| 5481-222 | Bilco Dursban 4E Insecticide
| 5481-240 | Alco Bug Spray Flea, Ant and Roach Killer
Contact Industries, a Division of Safeguard Chemical Corporation | 10806-52 | Contact Roach & Ant Killer II
| 10806-99 | Contact Ant and Roach Killer IV
| 10806-100 | Contact Ant and Roach Killer XV
| 10806-101 | Contact Liquid Ant & Roach Killer V
| 10806-102 | Contact Roach and Ant Killer XVI
Amrep, Incorporated | 10807-116 | Misty Ant, Roach, & Spider Residual Insecticide with Dursban
| 10807-187 | Misty Aqueous Residual Spray
Drexel Chemical Company | 19713-229 | Drexel Chlorpyrifos 0.5G
| 19713-341 | Leisur and Lawn Insect Control

In the Federal Register notice of December 5, 2001 (66 FR 63237), EPA requested public comment on the voluntary cancellation and use deletion requests, and provided a 30-day comment period. The registrants requested that the Administrator waive the 180-day comment period provided under FIFRA section 6(f)(1)(C).

No public comments were submitted to the docket in response to EPA's request for comments.

III. Cancellation Order

Pursuant to section 6(f) of FIFRA, EPA is approving the requested registration cancellations. The Agency orders that the registrations identified in Table 1 are hereby canceled. After January 25, 2002, any distribution, sale, or use of existing stocks of the products identified in Table 1 in a manner inconsistent with the terms of this Order or the Existing Stock Provisions in Unit IV of this Federal Register notice will be considered a violation of section 12(a)(2)(K) of FIFRA and/or section 12(a)(1)(A) of FIFRA.

IV. Existing Stocks Provisions

For purposes of this Order, the term “existing stocks” is defined, pursuant to EPA's existing stocks policy (56 FR 29362, June 26, 1991), as those stocks of a registered pesticide product which are currently in the United States and which have been packaged, labeled, and released for shipment prior to the effective date of the amendment or cancellation.

1. Distribution or sale by registrants. Except for the purposes of returns for relabeling consistent with the June 7, 2000 Memorandum of Agreement, shipping for export consistent with the requirements of section 17 of FIFRA, or proper disposal, the distribution or sale of existing stocks by registrants of any product identified in Table 1 will not be lawful under FIFRA after January 25, 2002.

2. Retail and other distribution or sale. The retail sale of existing stocks of products listed in Table 1 will not be lawful under FIFRA after January 25, 2002. Except as otherwise provided in this order, any other distribution or sale (for example, return to the manufacturer for relabeling) is permitted until stocks are exhausted.

3. Use of existing stocks. The use of existing stocks of products listed in Table 1 is permitted until such stocks are exhausted, provided such use is in accordance with the existing labeling of that product.

List of Subjects

Environmental protection, Memorandum of Agreement, Pesticides and pests.

Dated: January 15, 2002.
Jack Housenger,
Acting Director, Special Review and Reregistration Division, Office of Pesticide Programs.

[FR Doc. 02-1764 Filed 1-24-02; 8:45am]

BILLING CODE 6560-50-S